DEPARTMENT OF ENERGY

Federal Energy Regulatory Commission

[Docket No. IC21-6-000]

Commission Information Collection Activities (FERC-725s); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, FERC-725S (Emergency Preparedness and Operations (EOP) Reliability Standards).

DATES: Comments on the collection of information are due January 19, 2021.

ADDRESSES: You may submit comments (identified by Docket No. IC21-6-000) by one of the following methods:

• eFiling at Commission's Website: http://www.ferc.gov.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725S, Emergency Preparedness and Operations (EOP) Reliability Standards.

OMB Control No.: 1902-0270.

Type of Request: Three-year approval of the FERC-725S information collection requirements with no changes to the current reporting requirements.

Abstract: The Electricity Modernization Act of 2005, which is Title XII of the Energy Policy Act of 2005 (EPAct 2005), added a new section 215 to the Federal Power Act (FPA).¹ FPA section 215 requires a Commission-certified Electric Reliability Organization (ERO) to develop mandatory and enforceable Reliability Standards, subject to Commission review and approval. Once approved, the Reliability Standards may be enforced by the ERO, subject to Commission oversight, or by the Commission independently.

¹ 16 U.S.C. 824o. The approved Reliability Standards are available on the Commission's eLibrary document retrieval system on the NERC website, www.nerc.com.

Section 215 of the FPA requires a Commission-certified ERO to develop mandatory and enforceable Reliability Standards, subject to Commission review and approval. Once approved, the Reliability Standards may be enforced by the ERO subject to Commission oversight or by the Commission independently. In 2006, the Commission certified North American Electric Reliability Corporation (NERC) as the ERO pursuant to section 215 of the FPA. FERC-725S consists of Emergency Preparedness and Operations (EOP) Reliability Standards, EOP-004-4 (Event Reporting), EOP-005-3 (System Restoration from Blackstart Resources), EOP-006-3 (System Restoration Coordination), and EOP-008-2 (Loss of Control Center Functionality), EOP-010-1 (Geomagnetic Disturbance Operations), and EOP-011-1 (Emergency Operations). Reliability standards EOP-004-4, EOP-005-3, EOP-006-3 and EOP-008-2, EOP-010-1, and EOP-011-1, EOP Reliability Standards will enhance reliability by:

(1) Providing accurate reporting of events to NERC's event analysis group to analyze the impact on the reliability of the bulk electric system (Reliability Standard EOP-004-4).

(2) delineating the roles and responsibilities of entities that support system restoration from blackstart resources which generate power without the support of the bulk electric system (Reliability Standard EOP-005-3).

(3) clarifying the procedures and coordination requirements for reliability coordinator personnel to execute system restoration processes (Reliability Standard EOP-006-3).

(4) refining the required elements of an operating plan used to continue reliable operations of the bulk electric system in the event that primary control center functionality is lost (Reliability Standard EOP-008-2).

(5) address the effects of operating Emergencies by ensuring each Transmission Operator and Balancing Authority has developed Operating Plan(s) to mitigate operating Emergencies, and that those plans are coordinated within a Reliability Coordinator Area (EOP-010-1).

(6) streamlines the requirements for Emergency operations of the Bulk Electric System. Attachment 1, which is incorporated into Requirements R2 and R6, provides the process and descriptions of the levels used by the Reliability Coordinator when communicating the condition of a Balancing Authority that is experiencing an Energy Emergency (EOP-011-1).

Type of Respondents: Public utilities subject to the FPA.

Estimate of Annual Burden ² and cost ³: The Commission estimates there will be no changes in the annual public reporting burden for the FERC-735S, as follows:

² Burden is defined as the total time, effort, or financial resources expended by persons to generate, maintain, retain, or disclose or provide information to or for a Federal agency. For further explanation of what is included in the information collection burden, refer to 5 Code of Federal Regulations 1320.3.

³ Commission staff estimates that the industry's skill set and cost (for wages and benefits) for FERC-725S are approximately the same as the Commission's average cost. The FERC 2020 average salary plus benefits for one FERC full-time equivalent (FTE) is $172,329/year (or $83.00/hour).

⁴ The number of respondents is based on NERC compliance registration information as of October 2, 2020.

FERC-725S, Modifications Due to Final Rule in Docket No. XX-XX-XXX
Reliability standard and associated requirement | Number of respondents ⁴ | Annual number of responses per respondent | Total number of responses | Average burden & cost per response | Total annual burden & total annual cost | Cost per respondent ($)
| (1) | (2) | (1) * (2) = (3) | (4) | (3) * (4) = (5) | (5) ÷ (1)
EOP-010-1
| 181 | 1 | 181 | 20 hrs.; $1,660 | 3,620 hrs.; $300,460 | $1,660
EOP-011-1
| 12 | 1 | 12 | 1,500 hrs.; $124,500 | 18,000 hrs.; $1,494,000 | 124,500
EOP-004-4,EOP-005-3,EOP-006-3,EOP-008-2
| 280 | 1 | 280 | 250.58 hrs.; $20,798 | 70,162.4 hrs.; $5,234,440 | $20,798
Total EOP | 473 |  |  |  | 91,782 hrs.; $7,028,900 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 12, 2020.
Nathaniel J. Davis, Sr.,
Deputy Secretary.

[FR Doc. 2020-25438 Filed 11-17-20; 8:45 am]

BILLING CODE 6717-01-P